ENVIRONMENTAL PROTECTION AGENCY

40 CFR Part 52

[R05-OAR-2004-MN-0002; FRL-7846-7]

Approval and Promulgation of Implementation Plans: Minnesota: Minneapolis-St. Paul Carbon Monoxide Maintenance Plan Update

AGENCY: Environmental Protection Agency (EPA).

ACTION: Direct final rule.

SUMMARY: EPA is approving a revision to the Minnesota State Implementation Plan (SIP) for the maintenance of the Carbon Monoxide (CO) ambient air quality standards (NAAQS) submitted on November 10, 2004. Specifically, EPA is approving Minnesota's revised 1996 and 2009 CO emissions inventories and 2009 Motor Vehicle Emissions Budgets (MVEB) recalculated using MOBILE6 for the Minneapolis-St. Paul CO maintenance area.

DATES: This rule is effective on January 24, 2005, unless EPA receives relevant adverse written comments by January 10, 2005. If adverse comment is received, EPA will publish a timely withdrawal of the rule in the Federal Register and inform the public that the rule will not take effect.

ADDRESSES: Submit your comments, identified by Docket ID No. R05-OAR-2004-MN-0002 by one of the following methods:

Federal eRulemaking Portal: http://www.regulations.gov. Follow the on-line instructions for submitting comments.

E-mail: bortzer.jay@epa.gov.

Fax: (312) 886-5824.

Mail: You may send written comments to: J. Elmer Bortzer, Chief, Air Programs Branch (AR-18J), Environmental Protection Agency, 77 West Jackson Boulevard, Chicago, Illinois 60604.

Hand delivery: Deliver your comments to: J. Elmer Bortzer, Chief, Air Programs Branch, (AR-18J), U.S. Environmental Protection Agency, Region 5, 77 West Jackson Boulevard, 18th floor, Chicago, Illinois 60604. Such deliveries are only accepted during the Regional Office's normal hours of operation. The Regional Office's official hours of business are Monday through Friday, 8:30 to 4:30 excluding Federal holidays.

Instructions: Direct your comments to Docket ID No.R05-OAR-2004-MN-0002. EPA's policy is that all comments received will be included in the public docket without change, including any personal information provided, unless the comment includes information claimed to be Confidential Business Information (CBI) or other information whose disclosure is restricted by statute. Do not submit information that you consider to be CBI or otherwise protected through regulations.gov, or e-mail. The Federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to the SUPPLEMENTARY INFORMATION section of the related proposed rule which is published in the proposed rule section of this Federal Register.

Docket: All documents in the docket are listed in an index. Although listed in the index, some information is not publicly available, i.e., CBI or other information whose disclosure is restricted by statute. Publicly available docket materials are available in hard copy at Environmental Protection Agency, Region 5, Air and Radiation Division, 77 West Jackson Boulevard, Chicago, Illinois 60604. (We recommend that you telephone Michael Leslie, Environmental Engineer, at (312) 353-6680 before visiting the Region 5 office.) This Facility is open from 8:30 a.m. to 4:30 p.m., Monday through Friday, excluding legal holidays.

FOR FURTHER INFORMATION CONTACT: Michael Leslie, Environmental Engineer, Criteria Pollutants Section (AR-18J), Air Programs Branch, Air and Radiation Division, United States Environmental Protection Agency, Region 5, 77 West Jackson Boulevard, Chicago, Illinois 60604, (312) 353-6680, leslie.michael@epa.gov.

SUPPLEMENTARY INFORMATION: Throughout this document whenever “we,” “us,” or “our” is used, we mean EPA. This SUPPLEMENTARY INFORMATION section is organized as follows:

I. General Information

A. Does This Action Apply to Me?

B. How Can I Get Copies of This Document and Other Related Information?

C. How and To Whom Do I Submit Comments?

II. Background

III. What Is The MOBILE Model and MOBILE6?

IV. What Is Transportation Conformity?

V. What Is a Motor Vehicle Emissions Budget?

VI. What Is the Purpose and Content of Minnesota's Submittal?

VII. What Are the Revised CO Emissions Inventories?

VIII. What Is Minneapolis-St. Paul Revised Motor Vehicle Emissions Budget?

IX. EPA Action.

X. Statutory and Executive Order Reviews

I. General Information

A. Does This Action Apply to Me?

This action is a non-regulatory planning document designed to ensure that ambient concentrations of CO in the Minneapolis-St. Paul area are maintained at levels that comply with the NAAQS.

B. How Can I Get Copies of This Document and Other Related Information?

1. The Regional Office has established an electronic public rulemaking file available for inspection at Regional Material in EDocket (RME) under RME ID No. R05-OAR-2004-MN-0002, and a hard copy file which is available for inspection at the Regional Office. The official public file consists of the documents specifically referenced in this action, any public comments received, and other information related to this action. Although a part of the official docket, the public rulemaking file does not include Confidential Business Information (CBI) or other information whose disclosure is restricted by statute. The official public rulemaking file is the collection of materials that is available for public viewing at the Air Programs Branch, Air and Radiation Division, EPA Region 5, 77 West Jackson Boulevard, Chicago, Illinois 60604. EPA requests that if at all possible, you contact the person listed in the FOR FURTHER INFORMATION CONTACT section to schedule your inspection. The Regional Office's official hours of business are Monday through Friday, 8:30 a.m. to 4:30 p.m. excluding Federal holidays.

2. Electronic Access. You may access this Federal Register document electronically through the regulations.gov Web site located at http://www.regulations.gov where you can find, review, and submit comments on Federal rules that have been published in the Federal Register, the government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

C. How and to Whom Do I Submit Comments?

You may submit comments electronically, by mail, or through hand delivery/courier. To ensure proper receipt by EPA, identify the appropriate rulemaking identification number by including the text “Public comment on proposed rulemaking Region 5 Air Docket “R05-OAR-2004-MN-0002” in the subject line on the first page of your comment. Please ensure that your comments are submitted within the specified comment period. Comments received after the close of the comment period will be marked “late.” EPA is not required to consider these late comments.

For detailed instructions on submitting public comments and on what to consider as you prepare your comments see the ADDRESSES section and the section I General Information of the SUPPLEMENTARY INFORMATION section of the related proposed rule which is published in the Proposed Rules section of this Federal Register.

II. Background

The Minnesota Pollution Control Agency (MPCA) is required to develop and periodically update a maintenance plan to ensure that ambient concentrations of CO in the Minneapolis-St. Paul area are maintained at levels that comply with the NAAQS. The CO Maintenance Plan for Minneapolis-St. Paul is a component of Minnesota's SIP for the NAAQS. The CO maintenance plan established a MVEB which is used in transportation conformity.

On January 29, 2002, EPA officially released the MOBILE6 motor vehicle emissions factor model (67 FR 4254). The primary purpose of this submittal is to use the MOBILE6 model to help MPCA update the CO Maintenance Plan's MVEB. The on-road mobile, point and area, and non-road portions of the maintenance plan's CO emissions inventory have been updated as well.

III. What Is the MOBILE Model and MOBILE6?

MOBILE is an EPA emissions factor model used for estimating pollution from on-road motor vehicles. MOBILE calculates emissions of volatile organic compounds (VOCs), nitrogen oxides (NOX) and carbon monoxide (CO) from passenger cars, motorcycles, buses, and light-duty and heavy-duty trucks. The model accounts for changes in vehicle emission standards, changes in vehicle populations and activity, and variation in local conditions such as temperature, humidity, fuel quality, and air quality programs.

MOBILE is used to calculate current and future inventories of motor vehicle emissions at the national and local level. Inventories based on MOBILE are also used to meet the federal Clean Air Act's SIP and transportation conformity requirements.

MOBILE6 is the first major update of the MOBILE model since 1993. The MOBILE model was first developed in 1978. It has been updated many times to reflect changes in the vehicle fleet and fuels, to incorporate EPA's growing understanding of vehicle emissions, and to cover new emissions regulations and modeling needs. Although some minor updates were made in 1996 with the release of MOBILE5b, MOBILE6 is the first major revision to MOBILE since MOBILE5a was released in 1993.

IV. What Is Transportation Conformity?

Transportation conformity means that the level of emissions from the transportation sector (cars, trucks and buses) must be consistent with the requirements in the SIP to attain and maintain the air quality standards. The Clean Air Act, in section 176(c), requires conformity of transportation plans, programs and projects to an implementation plan's purpose of attaining and maintaining the National Ambient Air Quality Standards. EPA published rules (40 CFR part 93 subpart A) establishing criteria and procedures for determining whether transportation plans, programs and projects funded or approved under title 23 U.S.C. or the Federal Transit Act conform to the SIP.

The transportation conformity rules require a CO maintenance area, such as Minneapolis-St. Paul, to compare the actual projected emissions from cars, trucks and buses on the highway network, to the MVEB established by a maintenance plan. The Minneapolis-St. Paul area has an approved CO maintenance plan. This submittal established the new MVEB for transportation conformity purposes.

V. What Is a Motor Vehicle Emissions Budget?

An MVEB is the projected level of controlled emissions from the transportation sector (on-road mobile sources) that is estimated in the SIP. The SIP controls emissions through regulations, for example, on fuels and exhaust levels for cars. The emissions budget concept is further explained in the preamble to the November 24, 1993, transportation conformity rule (58 FR 62188). The preamble also describes how to establish the MVEB in the SIP and how to revise the emissions budget. The transportation conformity rule allows changing the MVEB as long as the total level of emissions from all sources remains below the attainment level.

VI. What Is the Purpose and Content of Minnesota's Submittal?

In this submittal, Minnesota provided 1996 and 2009 CO emissions inventories based on the MOBILE6 model. The purpose of this submittal is to update the CO Maintenance Plan MVEB to reflect the updated inventories. EPA officially released the MOBILE6 motor vehicle emissions factor model on January 29, 2002 (67 FR 4254). The November 10, 2004, submittal demonstrates that the new levels of motor vehicle emissions calculated using MOBILE6 continue to support maintenance of the CO NAAQS for Minneapolis-St. Paul area.

VII. What Are the Revised CO Emissions Inventories?

The MPCA contracted with the Sonoma Technology Incorporated (STI) consultants to develop the emissions inventory for the maintenance plan. Table 1 below summarizes the revised CO emissions inventories in tons per winter day. EPA is approving these revised 2009 emissions inventories. The CO emission inventory includes on-road mobile sources, point and area sources, and non-road mobile sources.

Table 1.—Minneapolis-St. Paul CO Emissions (tons/winter day)
Source category | 1996 | 2009
On-Road Mobile | 1,872 | 1,311
Point and Area | 297 | 127
Non-Road Mobile | 337 | 418
Totals | 2,506 | 1,856

On-Road Mobile Sources

On-road mobile sources represent the majority of CO emissions for the Minneapolis-St Paul CO maintenance area. The revised inventories were developed using the latest planning assumptions, including updated vehicle registration data and age distribution, vehicle miles traveled (VMT), speeds, fleet mix, and SIP control measures.

The VMT data used for the 1996 on-road mobile source inventories were generated from the data that was reported annually to the United States Department of Transportation's Highway Performance Monitoring System (HPMS). Because HPMS data are annual average daily traffic (AADT) data, these data need to be adjusted for wintertime inventories. The Minnesota Department of Transportation estimated a scaling factor of 0.87 for converting annual VMT to wintertime VMT, and this factor was applied to all HPMS data.

For future years, VMT data were estimated using a traffic demand model (TDM) recently developed by the Metropolitan Council. This model estimates VMT on freeways, including some but not all ramps and arterials and collectors. To estimate the total VMT on freeways (i.e., including all ramps), a default assumption from MOBILE6 that total freeway VMT is 92% nonramp and 8% ramp was used.

For the 1996 emission inventory, the speeds were assumed for each functional class (interstate, arterial, and collectors), with the exception that local systems (urban and rural) were modeled as local roadways in MOBILE6, and therefore had fixed average speeds of 12.9 mph. Information was not available to break the speed data down into separate averages for AM peak, PM peak, and off-peak periods, or to determine the statistical distribution of different speeds. For freeways and interstates, the speeds were assumed to be the VMT weighted average of ramp and nonramp speeds. The MOBILE6 defaults for freeway ramp VMT and freeway nonramp VMT were assumed.

The TDM calculates speeds for future years, but the speed calculation methods were not developed for purposes of emissions modeling. In most transportation models, speed is estimated primarily to allocate travel across the roadway network. Speed is used as a measure of impedance to travel rather than as a prediction of accurate travel times. For this reason, speed results from most travel demand models must be adjusted to properly estimate actual average speeds.

As a result, rather than using the speeds calculated by the TDM, speeds were calculated in accordance with EPA guidance. The EPA guidance identifies eight different methodologies for estimating speed of which one involves the use of a post-processor. For each TDM run, the post-processor was applied to each roadway link for each hour of the day. The number of roadway links differed among TDM runs; and therefore the interpolation of link-specific speed data between TDM runs (as was done for VMT data) would not have been straightforward for 2009 and 2019. The interagency consultation group decided that it was reasonable to estimate that 2009 average speeds would be approximately the same as those estimated from the 2010 TDM run, and 2019 average speeds would be approximately the same as those estimated from the 2020 TDM run. VMT weighted average speeds were calculated for each county, MOBILE6 roadway type (i.e., freeway and arterial/collector), and time period (AM peak, PM peak, or off-peak).

The distribution of VMT across different vehicle types is referred to as the “VMT mix.” MOBILE6 includes default VMT mixes for past, current, and future years, taking into account projected changes in VMT mix over time. Although past VMT mix information could have been updated based on HPMS data, this is not possible for future years. For this reason, MOBILE6 defaults for VMT mix were used to generate emissions.

Although the MOBILE6 model includes default vehicle age distributions, which are usually assumed to not change over time, MOBILE6 results can depend heavily on the distribution of vehicle ages used. STI obtained vehicle registration data from the Minnesota Department of Public Safety. For each vehicle, these data included a vehicle identification number (VIN) and the county of registration. These data were used to determine age distributions for light-duty passenger vehicles and light-duty trucks (LDVs and LDTs) in the 8-county Minneapolis-St. Paul area. STI used MOBILE6 defaults for heavy-duty vehicle age distributions. Heavy-duty vehicle traffic in Minneapolis-St. Paul is likely to have a significant contribution from vehicles registered outside the eight counties, and possibly outside the state, thus indicating that national default data were more appropriate for heavy-duty vehicles than for light-duty vehicles.

For light-duty cars, the Minneapolis-St. Paul age distribution is very similar to the default national age distribution included in MOBILE6; but LDTs in the 8-county region were significantly newer than the MOBILE6 default age distribution with the exception that Class 1 LDTs were significantly older than the MOBILE6 default age distribution.

Point and Area Sources

The emission inventories for stationary and area sources were based on MPCA's emissions estimates for 1996 and 2002. Information gaps in the 2002 inventory were filled with estimates acquired from the Central Regional Air Planning Association, the Lake Michigan Air Directors' Consortium, and the preliminary draft version of the EPA's 2002 National Emission Inventory (NEI). Emissions were projected from 2002 forward to 2009 (and, when needed, back to 1996) by applying growth factors from EPA's Economic Growth Analysis System (EGAS) model or other appropriate growth surrogates. For example, STI applied survey data that indicated declining trends in the numbers of fireplaces per household and the consumption of wood per fireplace, as well as increasing trends in the estimated numbers of housing units (historical and forecasted) to project emissions for residential wood combustion. Finally, STI applied seasonal profiles to estimate emissions for a typical winter day.

The specific information sources used for 1996 and 2002 emissions estimates, growth projection factors, and seasonal profiles applied for each emissions source category (designated by source classification code [SCC]) were included in an appendix to the submittal. In addition, some of the stationary source estimates reflect local data.

Non-Road Sources

Non-road emissions result from the use of fuel in a diverse collection of vehicles and equipment such as recreational vehicles, agricultural equipment, and construction equipment. STI used the newest version of EPA's NONROAD model to estimate emissions from all non-road sources except commercial marine vessels (CMVs), locomotives, and aircraft. NONROAD was run for the 1996 and 2009 winters in the 8-county area, using weekday activity information. The most recent version of this model is NONROAD2004 released on May 11, 2004.

Some of the seasonal activity factors in NONROAD2004 were adjusted to account for local information. For the Minneapolis-St. Paul area, it was determined the wintertime activity for some types of lawn and garden equipment (and golf carts) should be 0%. Aircraft ground support equipment and terminal tractors are excluded from the non-road emissions because these emissions were included in MPCA's emission inventory for airports.

In winter, emissions from CMVs in the Minneapolis-St. Paul area are negligible due to frozen waterways. Year 2002 emissions from airport ground-support equipment at the Minneapolis-St. Paul airport and emissions from aircraft were acquired from the MPCA point source inventory. Emissions from ground-support equipment were projected to 1996 and 2009 by using EGAS growth factors. Emissions for aircraft were projected by using historical aircraft operations data, forecasts of operations by the Metropolitan Council, or forecasts of operations by the Federal Aviation Administration whenever available. Historical data and forecasts were not readily available for a few small airports; therefore, EGAS growth factors were applied instead. Aircraft at these airports accounted for approximately 12% of total emissions from aircraft in 2002.

Emissions from locomotives were estimated to be quite low (approximately one ton per winter day) in the 1998 Maintenance Plan, and a recent evaluation of locomotive emissions conducted by STI for calendar year 2002 confirmed that these emissions were approximately correct. Therefore, the 1996 locomotive emission estimates in the 1998 Maintenance Plan were retained. For 2009, locomotive emissions were assumed to be identical, since EPA has projected no growth in locomotive fuel usage and no CO emission reductions associated with its locomotive emissions regulations.

VIII. What Is Minneapolis-St. Paul Revised Motor Vehicle Emissions Budget?

MPCA submitted an emissions inventory for the Minneapolis-St. Paul maintenance area for the base year of 1996. The year 1996 was selected for the inventory as no excursions or violations of the standard occurred. Emissions were then projected for 2009. The MOBILE6 emissions model was used for on-road mobile sources. These revised inventories were developed using the latest planning assumptions, including updated vehicle registration data from 1996 through 2009, VMT, speeds, fleet mix, and SIP control measures. The emission inventory amounts are shown in the table below.

Table 2.—Minneapolis-St. Paul CO Emissions (tons/winter day)
Source category | 1996 | 2009
On-Road Mobile | 1,872 | 1,311
Point and Area | 297 | 127
Non-Road Mobile | 337 | 418
Totals | 2,506 | 1,856

A “safety margin” is the difference between the attainment level of emissions (from all sources) and the projected level of emissions (from all sources) in the maintenance plan. The attainment level of emissions is the level of emissions during one of the years in which the area met the air quality health standard. For example: The emissions from point, area and mobile sources for the Minneapolis-St. Paul area in 1996 equaled 2506 tons per winter day of CO. The projected emissions for 2009 totaled 1856 tons per winter day of CO from all sources. The safety margin for the Minneapolis-St. Paul area is the difference between these amounts, or 650 tons per winter day of CO.

Minnesota has submitted a complete and accurate emissions inventory of CO for the Minneapolis-St. Paul maintenance area and we are approving the emissions inventory. Based upon the updated emissions inventory, the revised maintenance plan contains a new budget (or limit) for motor vehicle emissions resulting from transportation plans for the Minneapolis-St. Paul maintenance area. We have reviewed the budget and have found that the budgets meet all of the adequacy criteria in section 93.118 of the transportation conformity rule. These criteria include: (1) The SIP was endorsed by the Governor (or his designee) and was subject to a state public hearing; (2) consultation among federal, state, and local agencies occurred; (3) the emissions budget is clearly identified and precisely quantified; (4) the MVEB, when considered together with all other emissions, is consistent with attainment; and (5) the MVEB is consistent with and clearly related to the emissions inventory and control strategy in the SIP. We are also required to consider comments submitted to the state at the public hearing. No significant comments were received by the state on the transportation conformity budget. The new area-wide CO budget is shown in the table below:

Table 3.—Minneapolis-St. Paul's Motor Vehicle Emissions Budget
Source category | 2009 CO emissions (tons/winter day)
On-Road Mobile | 1,311
Safety Margin | 650
Motor Vehicle Emissions Budget | 1,961

This new MVEB is to be used in all subsequent conformity determinations concerning transportation plans in the Minneapolis-St. Paul maintenance area. We believe that the MVEB is consistent with the control measures identified in this maintenance plan and that this plan demonstrates maintenance with the CO standard.

The above demonstrates the 2009 emissions will still maintain the total emissions for the area at or below the maintenance level. For this reason, EPA is approving the new projected MVEB for 2009.

IX. EPA Action

EPA is approving the Minnesota SIP revision submitted on November 10, 2004. This submittal revises Minnesota's 1996 and 2009 CO emission inventories and 2009 MVEB using MOBILE6 for the Minneapolis-St. Paul CO maintenance area.

EPA is publishing this action without prior proposal, because EPA views this as a noncontroversial revision and anticipates no adverse comments. However, in a separate document in this Federal Register publication, EPA is proposing to approve the SIP revision should adverse written comments be filed. This action will be effective without further notice unless EPA receives relevant adverse written comments by January 10, 2005. Should the Agency receive such comment, we will publish a final rule informing the public that this action will not take effect. Any parties interested in commenting on this action should do so at this time. If we do not receive comments, this action will be effective on January 24, 2005. An effective date 45 days from the date of publication in the Federal Register has been selected in consideration of section 553 of the Administrative Procedure Act (5 U.S.C. 553). Section 553(d)allows us to make this action effective in 45 days because this action relieves a restriction on the funding of transportation projects in Minnesota which would occur and continue without the approval of this plan revision.

X. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by February 7, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide.

Dated: November 30, 2004.
Bharat Mathur,
Acting Regional Administrator, Region 5.

Part 52, chapter I, title 40 of the Code of Federal Regulations is amended as follows:

PART 52—[AMENDED]

1. The authority citation for part 52 continues to read as follows:

Authority: 42 U.S.C. 7401 et seq.

Subpart Y—Minnesota

2. Section 52.1237 is amended by adding paragraph (d) to read as follows:

§ 52.1237 Control strategy: Carbon monoxide.

* * * * *

(d) Approval—On November 10, 2004, Minnesota submitted a revision to the Carbon Monoxide (CO) maintenance plan for the Minneapolis-St. Paul area. These plans revised 1996 and 2009 motor vehicle emission inventories and 2009 Motor Vehicle Emissions Budgets (MVEB) recalculated using the emissions factor model MOBILE6. The MVEB for transportation conformity purposes for the Minneapolis-St. Paul maintenance area is 1961 tons per winter day of CO.

[FR Doc. 04-27026 Filed 12-8-04; 8:45 am]

BILLING CODE 6560-50-P